NUCLEAR REGULATORY COMMISSION

10 CFR Part 26

[Docket No. PRM-26-8; NRC-2012-0290]

Additional Synthetic Drug Testing

AGENCY: Nuclear Regulatory Commission.

ACTION: Petition for Rulemaking; consideration in the rulemaking process.

SUMMARY: The U.S. Nuclear Regulatory Commission (NRC) will consider the issues raised in a petition for rulemaking (PRM), PRM-26-8, submitted by Mr. Thomas King (the petitioner) in the NRC's rulemaking process. The petitioner requested that the NRC amend its Fitness for Duty program regulations to amend drug testing requirements to test for additional synthetic drugs currently not included in the regulations. The NRC determined that the issues raised in the PRM are appropriate for consideration in an ongoing rulemaking on Drug and Alcohol Testing. The NRC is not instituting a public comment period at this time.

DATES: The docket for the petition for rulemaking, PRM-26-8, is closed on April 15, 2013.

ADDRESSES: Further NRC action on the issues raised by this petition can be found on the Federal rulemaking Web site at http://www.regulations.gov by searching on Docket ID NRC-2012-0079, which is the rulemaking docket for the Part 26 Drug and Alcohol Testing; Technical Issues and Editorial Changes rulemaking.

You can access publicly available documents related to the petition, which the NRC possesses and are publicly available, using any of the following methods:

• Federal Rulemaking Web site. Supporting materials related to this petition can be found at http://www.regulations.gov by searching on the petition Docket ID NRC-2012-0290 or the Part 26 Drug and Alcohol Testing; Technical Issues and Editorial Changes rulemaking Docket ID NRC-2012-0079. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The petition for rulemaking is available in ADAMS under Accession Number ML12332A137.

• NRC's Public Document Room (PDR): You may examine and purchase copies of public documents at the NRC's PDR, Room O1-F21, One White Flint North, 11555 Rockville Pike, Rockville, Maryland 20852.

FOR FURTHER INFORMATION CONTACT: Scott Sloan, Office of Nuclear Reactor Regulation, U.S. Nuclear Regulatory Commission, Washington, DC 20555; telephone: 301-415-1619; email: Scott.Sloan@nrc.gov.

SUPPLEMENTARY INFORMATION: On October 3, 2012, the NRC received a PRM filed by Thomas King requesting the NRC take immediate action to address and curtail the use of new synthetic drugs at nuclear power plants. The NRC requirements in Part 26 of Title 10 of the Code of Federal Regulations (10 CFR), “Fitness for Duty Program,” already enable licensees and other affected entities to add other drugs that are scheduled in the Controlled Substances Act to the panel of substances tested pursuant to 10 CFR 26.31(d)(1)(i). However, the NRC has determined that the broader issue of synthetic drug use raised by the petitioner is appropriate for consideration and will address it in the ongoing 10 CFR part 26 Drug and Alcohol Testing; Technical Issues and Editorial Changes rulemaking. Therefore, the NRC is not instituting an opportunity for public comment at this time. Stakeholders will have an opportunity to comment on the proposed rule associated with 10 CFR part 26 Drug and Alcohol Testing; Technical Issues and Editorial Changes.

You can monitor NRC action on the issues raised by this petition by searching on the rulemaking Docket ID NRC-2012-0079 on the Federal rulemaking Web site. This site allows you to receive alerts when changes or additions occur in a docket folder. To subscribe: (1) Navigate to the docket folder (NRC-2012-0079; Part 26 Drug and Alcohol Testing; Technical Issues and Editorial Changes rulemaking); (2) click the “Email Alert” link; and (3) enter your email address and select how frequently you would like to receive emails (daily, weekly, or monthly).

The Docket for the petition, PRM-26-8, is closed.

Dated at Rockville, Maryland, this 4th day of April 2013.
For the Nuclear Regulatory Commission.
R.W. Borchardt,
Executive Director for Operations.

[FR Doc. 2013-08752 Filed 4-12-13; 8:45 am]

BILLING CODE 7590-01-P